ENVIRONMENTAL PROTECTION AGENCY

40 CFR Part 52

[R01-OAR-2004-ME-0001; A-1-FRL-7625-4]

Approval and Promulgation of Air Quality Implementation Plans; Maine; Approval of State Implementation Plan Revision to PM10 PSD Increments

AGENCY: Environmental Protection Agency (EPA).

ACTION: Proposed rule.

SUMMARY: EPA is proposing to approve a State Implementation Plan (SIP) revision submitted by the State of Maine. This revision establishes maximum allowable increases in particulate matter concentration for the prevention of significant deterioration (PSD) program, where particulate matter is measured as particulates with a mean aerodynamic diameter of 10 microns or less (“PM10”), rather than as total suspended particulates (TSP).

DATES: Written comments must be received on or before April 21, 2004.

ADDRESSES: Comments may be mailed to Dan Brown, Acting Unit Manager, Air Permits, Toxics, and Indoor Air Programs, Office of Ecosystems Protection (mail code CAP), U.S. Environmental Protection Agency, EPA New England Regional Office, One Congress Street, Suite 1100, Boston, MA 02114-2023. Comments may also be submitted electronically or through hand delivery/courier; please follow the detailed instructions in part (I)(B)(1)(i) through (iv) of the SUPPLEMENTARY INFORMATION section of the direct final rule which is located in the rules section of this Federal Register.

FOR FURTHER INFORMATION CONTACT: Ian D. Cohen, Air Permits, Toxics, and Indoor Air Programs Unit, U.S. Environmental Protection Agency, EPA New England Regional Office, One Congress Street, Suite 1100 (CAP), Boston, MA 02114-2023, (617) 918-1655, cohen.ian@epa.gov.

SUPPLEMENTARY INFORMATION: In the final rules section of this Federal Register, EPA is approving the State's SIP revision as a direct final rule without prior proposal because EPA views this rulemaking as noncontroversial and anticipates no adverse comments. A detailed rationale for the approval is set forth in the direct final rule. If no adverse comments are received in response to this action rule, no further activity is contemplated. If EPA receives adverse comments, the direct final rule will be withdrawn and all public comments received will be addressed in a subsequent final rule based on this proposed rule. EPA will not institute a second comment period. Any parties interested in commenting on this action should do so at this time. If EPA receives adverse comments on a section, paragraph, or other portion of this rule that may be severed from the remainder of the rule, EPA may adopt as final those provisions of the rule that are not the subject of an adverse comment.

For additional information, see the direct final rule located in the final rules section of this Federal Register.

Dated: February 5, 2004.
Robert W. Varney,
Regional Administrator, EPA New England.

[FR Doc. 04-6210 Filed 3-19-04; 8:45 am]

BILLING CODE 6560-50-P